DEPARTMENT OF TRANSPORTATION

Surface Transportation Board

[STB Finance Docket No. 33923]

Sandusky River Railroad Company, Inc.—Acquisition and Operation Exemption—Norfolk Southern Railway Company

Sandusky River Railroad Company, Inc. (SRRC), a noncarrier, has filed a verified notice of exemption under 49 CFR 1150.31 to acquire from Norfolk Southern Railway Company (NS) and operate approximately 7.47 miles of rail line in Fremont, Sandusky County, OH (line). The line is described as generally X-shaped and runs from milepost NS-267.95 to milepost NS-265.60 and from milepost EW-25.50 to milepost EW-20.38. In addition, the line will maintain an interchange with NS at EW-22.4 = T-37.2.

The parties report that they intend to consummate the transaction within approximately sixty days of the date of the exemption. The earliest the transaction can be consummated is September 8, 2000, 7 days after the exemption was filed.

This transaction is related to STB Finance Docket No. 33924, Arthur J. Fournier—Continuance in Control Exemption—Sandusky River Railroad Company, Inc., wherein Arthur J. Fournier has concurrently filed a verified notice to continue in control of SRRC upon its becoming a Class III rail carrier.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33923, must be filed with the Surface Transportation Board, Office of the Secretary, Case Control Unit, 1925 K Street, NW., Washington, DC 20423-0001. In addition, a copy of each pleading must be served on Kelvin J. Dowd, Esq., Slover & Loftus, 1224 Seventeenth Street, NW., Washington, DC 20036.

Board decisions and notices are available on our website at “WWW.STB.DOT.GOV.”

Decided: September 7, 2000.
By the Board, David M. Konschnik, Director, Office of Proceedings.
Vernon A. Williams,
Secretary.

[FR Doc. 00-23659 Filed 9-13-00; 8:45 am]

BILLING CODE 4915-00-P